DEPARTMENT OF JUSTICE

Antitrust Division

Notice Pursuant to the National Cooperative Research and Production Act of 1993—Multiservice Switching Forum

Notice is hereby given that, on October 9, 2002, pursuant to section 6(a) of the National Cooperative Research and Production Act of 1993, 15 U.S.C. 4301 et seq. (“the Act”), Multiservice Switching Forum (“MSF”) has filed written notifications simultaneously with the Attorney General and the Federal Trade Commission disclosing changes in its membership status. The notifications were filed for the purpose of extending the Act's provisions limiting the recovery of antitrust plaintiffs to actual damages under specified circumstances. Specifically, Bay Packets, Fremont, CA; Catena Networks, Morrisville, NC; Convedia Corporation, Vancouver, British Columbia, Canada; Empirix, Wilmington, MA; Italtel, Milan, Italy; KT Corporation, Seoul, South Korea; Leapstone Systems, Somerset, NJ; MetaSwitch, Alameda, CA; National Communications System, Arlington, VA; NetTest, Markham, Ontario, Canada; Spirent Communications, Sunnyvale, CA; and ZTE Corporation, Shenzhen, Guangdong, China have been added as parties to this venture. ipVerse has changed its name to NexVerse, San Jose, CA; and LM Ericsson has changed its name to Ericsson, Stockholm, Sweden. Also, Armillaire Technologies, Bethesda, MD; CPlane, Menlo Park, CA; Data Connection, Enfield, United Kingdom; France Telecom, Lannion, Cedex. France; General Bandwidth, Austin, TX; Intel, Santa Clara, CA; KPN Telecom, The Hague, The Netherlands; Mahi Networks, Petaluma, CA; Mercury Communications, Middletown, NJ; Nokia, Helsinki, Finland; OKI Electric Industry, Chiba, Japan; SBC, Austin, TX; Swisscom AG, Berne, Switzerland; Tachion Networks, Eatontown, NJ; Telcordia Technologies, Morristown, NJ; Telecom Italia, Rome Italy; Turin Networks, Petaluma, CA; Voxpath Networks, Austin, TX; and Westwave Communications, Santa Rosa, CA have been dropped as parties to this venture.

No other changes have been made in either the membership or planned activity of the group research project. Membership in this group research project remains open, and MSF intends to file additional written notifications disclosing all changes in membership.

On January 22, 1999, MSF filed its original notification pursuant to section 6(a) of the Act. The Department of Justice published a notice in the Federal Register pursuant to section 6(b) of the Act on May 26, 1999 (64 FR 28519).

The last notification was filed with the Department on April 4, 2001. A notice was published in the Federal Register pursuant to section 6(b) of the Act on May 23, 2001 (66 FR 28546).

Constance K. Robinson,
Director of Operations, Antitrust Division.

[FR Doc. 02-28949 Filed 11-14-02; 8:45 am]

BILLING CODE 4410-11-M